DEPARTMENT OF DEFENSE

Office of the Secretary

[Docket ID DOD-2012-OS-0058]

Privacy Act of 1974; Systems of Records

AGENCY: National Security Agency/Central Security Service, DoD.

ACTION: Notice to alter a System of Records.

SUMMARY: The National Security Agency/Central Security Service proposes to alter a system of records in its existing inventory of records systems subject to the Privacy Act of 1974(5 U.S.C. 552a), as amended.

DATES: This proposed action will be effective on August 30, 2013 unless comments are received which result in a contrary determination. Comments will be accepted on or before August 29, 2013.

ADDRESSES: You may submit comments, identified by docket number and title, by any of the following methods:

* Federal Rulemaking Portal: http://www.regulations.gov. Follow the instructions for submitting comments.

* Mail: Federal Docket Management System Office, 4800 Mark Center Drive, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Kris Grein, National Security Agency/Central Security Service, Freedom of Information Act and Privacy Act Office, 9800 Savage Road, Suite 6248,Ft. George G. Meade, MD 20755-6248 or by phone at (301) 688-6527.

SUPPLEMENTARY INFORMATION: The National Security Agency/Central Security Service systems of records subject to the Privacy Act of 1974(5 U.S.C. 552a), as amended, have been published in the Federal Register and are available from the address in FOR FURTHER INFORMATION CONTACT or from the Defense Privacy and Civil Liberties Office Web site at http://dpclo.defense.gov/privacy/SORNs/component/nsa/index.html. The proposed system report, as required by 5 U.S.C. 552a(r) of the Privacy Act of 1974, as amended, was submitted on May 24, 2012 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: July 25, 2013.
Aaron Siegel,
Alternate OSD Federal Register Liaison Officer, Department of Defense.

GNSA 14

System Name:

NSA/CSS Library Patron File Control System (August 19, 2009, 74 FR 41869)

Changes:

* * * * *

System Location:

Delete entry and replace with “National Security Agency/Central Security Service, 9800 Savage Road,Ft. George G. Meade, MD 20755-6000.”

Categories of individuals covered by the system:

Delete entry and replace with “NSA civilian employees, active duty military assignees to NSA, or contractors assigned to NSA, who have approval of their contracting representative, are given permission to borrow items from the NSA/CSS library.”

* * * * *

Authority for maintenance of the system:

Delete entry and replace with “Section 6 of the National Security Agency Act of 1959, Public Law 86-36, (codified at 50 U.S.C. Section 402 note); and Department of Defense Instruction 1015.10, Military Morale, Welfare, and Recreation (MWR) Programs.”

* * * * *

System manager(s) and address:

Delete entry and replace with “Chief, Advanced Intelligence Research Services, National Security Agency/Central Security Service, 9800 Savage Road, Ft. George G. Meade, MD 20755-6000.”

Notification Procedure:

Delete entry and replace with “Individuals seeking to determine whether information about themselves is contained in this system should address written inquiries to the National Security Agency/Central Security Service, Freedom of Information Act/Privacy Act Office, 9800 Savage Road, Suite 6248, Ft. George G. Meade, MD 20755-6248.

Written inquiries should contain the individual's full name, mailing address, and signature.”

Record Access Procedures:

Delete entry and replace with “Individuals seeking access to information about themselves contained in this system should address written inquiries to the National Security Agency/Central Security Service, Freedom of Information Act/Privacy Act Office, 9800 Savage Road, Suite 6248, Ft. George G. Meade, MD 20755-6248.

Written inquiries should contain the individual's full name, mailing address, and signature.”

Contesting Record Procedures:

Delete entry and replace with “The NSA/CSS rules for contesting contents and appealing initial determinations are published at 32 CFR Part 322 or may be obtained by written request addressed to the National Security Agency/Central Security Service, Freedom of Information Act/Privacy Act Office, 9800 Savage Road, Suite 6248, Ft. George G. Meade, MD 20755-6248.”

* * * * *

[FR Doc. 2013-18238 Filed 7-29-13; 8:45 am]

BILLING CODE 5001-06-P